DEPARTMENT OF EDUCATION

[CFDA No.: 84.017A]

Office of Postsecondary Education; International Research and Studies Program

ACTION: Notice of reopening and correction of the International Research and Studies Program fiscal year (FY) 2003 competition.

Notice to Applicants: On September 26, 2002 the Secretary published in the Federal Register (67 FR 60645 through 60646) a notice inviting applications for new awards for FY 2003 for the International Research and Studies Program. This notice corrects the notice published on September 26, 2002 by replacing the absolute priority and the two invitational priorities with a single invitational priority, and reopening this competition.

In order to broaden the programmatic impact on the field of language, area and international studies, the Secretary replaces the entire section on priorities in the notice of September 26, 2002 with the following:

Invitational Priority

This competition focuses on projects designed to meet the priority in the regulations for this program (34 CFR 660.34(a)(2)).

Specific languages or regions for study or materials development: We are particularly interested in projects that include studies and the development of instructional materials on the Middle East, Central Asia, and South Asia and the languages spoken in these regions.

Under 34 CFR 75.105(c)(1) we do not give an application that meets the invitational priority a competitive or absolute preference over other applications. The competition is reopened to provide applicants time to prepare applications in accordance with this notice of correction.

New Deadline for Transmittal of Applications: January 17, 2003.

For Applications and Further Information Contact: The application for this program is available at: http://www.ed.gov/offices/OPE/HEP/iegps/irs.html.

Jose L. Martinez, U.S. Department of Education International Education and Graduate Programs Service, 1990 K Street NW., Suite 6000, Washington, DC 20006-8521. Telephone: (202) 502-7635, or via Internet: jose.martinez@ed.gov.

If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have any questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1125.

Dated: November 4, 2002.
Sally L. Stroup,
Assistant Secretary, Office of Postsecondary Education.

[FR Doc. 02-28419 Filed 11-7-02; 8:45 am]

BILLING CODE 4000-01-P